DEPARTMENT OF HEALTH AND HUMAN SERVICES

National Institutes of Health

Center for Scientific Review; Amended Notice of Meeting

Notice is hereby given of a change in the meeting of the Center for Scientific Review Special Emphasis Panel, June 4, 2010, 2 p.m. to June 4, 2010, 4 p.m., Grand Hyatt Seattle, 721 Pine Street, Seattle, WA 98101 which was published in the Federal Register on May 11, 2010, 75 FR 26261-26262.

The meeting has been changed to a telephone assisted meeting at the National Institutes of Health, 6701 Rockledge Drive, Bethesda, MD 20892. The meeting date and time have been changed to June 11, 2010, from 1 p.m. to 2 p.m. The meeting is closed to the public.

Dated: May 14, 2010.
Jennifer Spaeth,
Director, Office of Federal Advisory Committee Policy.

[FR Doc. 2010-12143 Filed 5-19-10; 8:45 am]

BILLING CODE 4140-01-P